DEPARTMENT OF ENERGY

Federal Energy Regulatory Commission

Notice of Site Visit, Scoping Meetings, and Soliciting Scoping Comments

May 12, 2005.

Take notice that the following hydroelectric exemption application has been filed with the Commission and is available for public inspection.

a. Type of Application: Exemption of a Major Hydropower Project 5 MW or Less.

b. Project: West Valley A&B Hydro Project No. 12053-001.

c. Date Filed: July 18, 2003.

d. Applicant: Mr. Nicholas Josten.

e. Location: On the South Fork of the Pit River in Modoc County, California. The project would be located on approximated 31 acres of federal lands, managed by Forest Service (FS) and Bureau of Land Management (BLM).

f. Filed Pursuant to: Public Utility Regulatory Policies Act of 1978, 16 U.S.C. §§ 2705, 2708.

g. Applicant Contact: Mr. Nicholas Josten, (208) 528-6152, gsense@cableone.net, 2742 St Charles Ave, Idaho Falls, ID 83404.

h. FERC Contact: Susan O'Brien, (202) 502-8449 or susan.obrien@ferc.gov.

i. FS Contact: Jayne Biggerstaff, (530) 283-7768 or jbiggerstaff@fs.fed.us.

j. BLM Contact: Phil Rhinehart, (530) 233-7907 or phil_rhinehart@ca.blm.gov.

k. Deadline for filing scoping comments: July 11, 2005.

All documents (original and eight copies) should be filed with: Magalie R. Salas, Secretary, Federal Energy Regulatory Commission, 888 First Street, NE., Washington, DC 20426.

Scoping comments may be filed electronically via the Internet in lieu of paper. The Commission strongly encourages electronic filings. See 18 CFR 385.2001(a)(1)(iii) and the instructions on the Commission's Web site (http://www.ferc.gov) through the Commission's eLibrary using the “Documents & Filing” link.

The Commission's Rules of Practice require all intervenors filing documents with the Commission to serve a copy of that document on each person on the official service list for the project. Further, if an intervenor files comments or documents with the Commission relating to the merits of an issue that may affect the responsibilities of a particular resource agency, they must also serve a copy of the document on that resource agency.

l. This application has been accepted for filing, but is not ready for environmental analysis at this time.

m. The proposed project would consist of two developments, West Valley A and West Valley Alternative B-1. Alternative B-2 has been deleted from the proposed project (applicant's response to deficiencies, filed October 25, 2004).

West Valley A run-of river development would have a capacity of 1.0 MW and consists of: (1) An existing concrete diversion structure; (2) an existing intake structure; (3) 11,600 feet of open canal; (4) a proposed concrete overflow structure; (5) a proposed 2,800 feet of new canal; (6) a proposed penstock; (7) a proposed powerhouse; (8) a proposed tailrace pipe; (9) a proposed transmission line; and (10) appurtenant facilities. The applicant estimates that the total average annual generation would be 3,300,000 kWh.

West Valley Alternative B-1 run-of-river development would have a capacity of 1.36 MW and consists of: (1) The existing West Valley Dam and outlet works; (2) a new bypass valve attached to the existing dam outlet pipe; (3) a proposed penstock; (4) a proposed powerhouse; (5) a proposed tailrace canal; (6) a proposed transmission line; and (7) appurtenant facilities. The applicant estimates that the total average annual generation would be 4,730,000 kWh.

n. A copy of the application is available for review at the Commission in the Public Reference Room or may be viewed on the Commission's Web site at http://www.ferc.gov using the “eLibrary” link. Enter the docket number excluding the last three digits in the docket number field to access the document. For assistance, contact FERC Online Support at FERCOnlineSupport@ferc.gov or toll-free at 1-866-208-3676, or for TTY, (202) 502-8659. A copy is also available for inspection and reproduction at the address in item g. above.

You may also register online at http://www.ferc.gov/docs-filing/esubscription.asp to be notified via e-mail of new filings and issuances related to this or other pending projects. For assistance, contact FERC Online Support.

o. By Letter of Understanding executed on April 18, 2005, the Forest Service (FS) and Bureau of Land Management (BLM) will be cooperating agencies regarding the Commission's actions on the West Valley Project, including consultation, submission of additional information requests, and cooperation in the preparation of scoping and environmental documents. The FS and BLM will make independent decisions to determine whether, and under what conditions, to authorize the construction, operation and maintenance of the hydropower project on Federal lands.

This scoping process will also satisfy the scoping responsibilities of the FS and BLM, as required by National Environmental Policy Act (NEPA) and the agencies' regulations. The FS and BLM will conduct ongoing consultation with the affected and interested Indian Tribes in order to meet FS and BLM consultation commitments.

p. Scoping Process: The Commission intends to prepare a single environmental document in accordance with NEPA. The environmental assessment (EA) will consider both site-specific and cumulative environmental effects and reasonable alternatives to the proposed action.

Site Visit: Commission staff, along with FS, BLM, and the applicant will conduct a site visit to the proposed project area on Wednesday, June 15, 2005. All interested parties and individuals are invited to attend. Please note that the site visit may involve extensive walking. Participants in the site visit will need to provide their own transportation (carpooling will be encouraged) and bring their own lunch/water. Anyone planning to attend the site visit needs to contact Susan O'Brien at (202) 502-8449 or susan.obrien@ferc.gov by June 9, 2005. The time and location of the site visit is as follows:

Public Site Visit

Date: Tuesday, June 14, 2005.

Time: 9 a.m.-3 p.m. (PDT).

Place: Meet at Likely Fire Hall (in parking lot), Route 395, Likely, California.

Scoping Meetings: Commission staff will hold two scoping meetings in the project area to ensure all interested parties have an opportunity to attend. All interested resource agencies, non-governmental organizations, Native American tribes, and individuals are invited to attend one or both of the meetings. The times and locations of these meetings are as follows:

Daytime Public Scoping Meeting

Date: Wednesday, June 15, 2005.

Time: 10 a.m. (PDT).

Place: Likely Fire Hall, Route 395, Likely California.

Evening Pubic Scoping Meeting

Date: Wednesday, June 15, 2005.

Time: 6:30 p.m. (PDT).

Place: Likely Fire Hall, Route 395, Likely California.

Copies of the Scoping Document (SD) outlining the subject areas to be addressed in the EA were mailed to all parties on the Commission's mailing list and will be available at the scoping meetings. Copies may also be viewed on the Commission's Web site at http://www.ferc.gov using the “eLibrary” link [see item (n.) above]. The Scoping meetings and site visit are posted on the Commission's calendar located on the Internet at http://www.ferc.gov/EventCalendar/EventsList.aspx along with other related information.

Objectives: At the scoping meetings, staff will: (1) Summarize the environmental issues tentatively identified for analysis in the EA; (2) solicit from the meeting participants all available information, especially empirical data, on the resources at issue; (3) encourage statements from experts and participants on issues that should be analyzed in the EA, including viewpoints in opposition to, or in support of, the staff's preliminary view; (4) determine the resource issues to be addressed in the EA; and (5) identify those issues that do not require a detailed analysis.

Procedures: The meetings will be recorded by a stenographer and become part of the formal record of the Commission proceeding on the project.

Individuals, organizations, resource agencies, and Indian tribes with environmental expertise and concerns are encouraged to attend the meetings and to assist Commission staff in defining and clarifying the issues to be addressed in the EA.

q. Procedural schedule: The application will be processed according to the following Hydro Exemption Schedule. Revisions to the schedule will be made as appropriate.

Major milestone | Target date
Issue Scoping Document | May 2005.
Site visit and Scoping Meetings | June 14-15, 2005.
Scoping Comments due | July 11, 2005.
Additional Information Request (AIR) | August 2005.
AIR Response due from Applicant | November 2005.
Notice that application is ready for environmental analysis | November 2005.
Comments, Terms and Conditions due | January 2006.
Reply Comments due | March 2006.
Environmental Assessment Issued | April 2006.
Ready for Commission's decision on the application | June 2006.

Magalie R. Salas,
Secretary.

[FR Doc. E5-2532 Filed 5-19-05; 8:45 am]

BILLING CODE 6717-01-P